DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice updates the VA Performance Review Board of the Department of Veterans Affairs that was published in the Federal Register on November 2, 2004 (Vol. 69,211).

EFFECTIVE DATE: January 19, 2005.

FOR FURTHER INFORMATION CONTACT: Charlotte Moment, Office of Human Resources Management (052B), Department of Veterans Affairs, 810 Vermont Avenue, NW., Washington, DC 20420, (202) 273-8165.

VA Performance Review Board (PRB)

R. Allen Pittman, Assistant Secretary of Human Resources and Administration (Chairperson)

Nora E. Egan, Chief of Staff

Thomas G. Bowman, Deputy Chief of Staff (Alternate)

Ronald R. Aument, Deputy Under Secretary for Benefits, Veterans Benefits Administration

Michael Walcoff, Associate Deputy Under Secretary for Operations, Veterans Benefits Administration (Alternate)

Michael J. Kussman, M.D., Acting Deputy Under Secretary for Health, Veterans Health Administration

Laura J. Miller, Assistant Deputy Under Secretary for Health for Operations and Management, Veterans Health Administration (Alternate)

John H. Thompson, Deputy General Counsel

D. Mark Catlett, Principal Deputy Assistant Secretary for Management

Lucretia M. McClenney, Special Assistant

John A. Wooditch, Deputy Inspector General

Robert B. Holbrook, Director, Office of Construction Management, National Cemetery Administration

Pamela M. Iovino, Acting Assistant Secretary for Congressional and Legislative Affairs

Veterans Benefits Administration PRB

Ronald R. Aument, Deputy Under Secretary for Benefits, (Chairperson)

Geraldine V. Breakfield, Associate Deputy Under Secretary for Management

Robert J. Epley, Associate Deputy Under Secretary for Policy & Program Management

Michael Walcoff, Associate Deputy Under Secretary for Field Operations

James Bohmbach, Chief Financial Officer

Diana M. Rubens, Director, Western Area Office

Thomas Bowman, Deputy Chief of Staff, Office of the Secretary

Veterans Health Administration PRB

Michael J. Kussman, MD, Chair, Acting Deputy Under Secretary for Health

Laura J. Miller, Vice-Chair, Deputy Under Secretary for Health for Operations and Management

Linda W. Belton, Network Director, VISN 11

Everett A. Chasen, Chief Communications Officer

Jeanette A. Chirico-Post, MD, Network Director, VISN 1

Kenneth J. Clark, Network Director, VISN 22

Arthur S. Hamerschlag, VHA Chief of Staff

Daniel F. Hoffmann, Network Director, VISN 6

Robert M. Kolodner, MD, Associate Chief Information Officer

Robert E. Lynch, MD, Network Director, VISN 16

Jimmy A. Norris, Chief Financial Officer

Robert A. Petzel, MD, Network Director, VISN 23

Catherine J. Rick, RN, MSN, Chief Nursing Officer

Linda F. Watson, Network Director, VISN 7

Nevin M. Weaver, Director, Management Support Office (Ex Officio)

Robert L. Wiebe, MD, Network Director, VISN 21

Mark E. Shelhorse, Acting Chief Consultant, Mental Health Strategic Health Care Group

Dennis Duffy, Acting Assistant Secretary for Policy, Planning, and Preparedness

Office of Inspector General PRB

George Grob, Department of Health and Human Services, Office of Inspector General

George J. Opfer, Department of Labor, Office of Inspector General

Michael P. Stephens, Department of Housing and Urban Development, Office of Inspector General

Dated: January 11, 2005.
Anthony J. Principi
Secretary of Veterans Affairs.

[FR Doc. 05-977 Filed 1-18-05; 8:45 am]

BILLING CODE 8320-01-M